DEPARTMENT OF HEALTH AND HUMAN SERVICES

Administration for Children and Families

[0970-0543]

Submission for OMB Review; Screening Tool for Unaccompanied Children Program Staff and Visitors

AGENCY: Office of Refugee Resettlement; Administration for Children and Families, Department of Health and Human Services.

ACTION: Request for public comment.

SUMMARY: The Office of Refugee Resettlement (ORR), Administration for Children and Families (ACF), U.S. Department of Health and Human Services (HHS), is proposing to continue use of a coronavirus (COVID-19) screening tool for unaccompanied children (UC) program staff and visitors at ORR care provider facilities.

DATES: Comments due within 30 days of publication. The Office of Management and Budget (OMB) must make a decision about the collection of information between 30 and 60 days after publication of this document in the Federal Register. Therefore, a comment is best assured of having its full effect if OMB receives it within 30 days of publication. All emailed requests should be identified by the title of the information collection.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The COVID-19 Verbal Screening and Temperature Check tool is verbally administered to all staff and visitors before they are granted access an ORR care provider facility. The tool asks whether the individual displays COVID-19 symptoms, has had close contact with individuals known to test positive for COVID-19, has been tested for COVID-19, has been exposed to someone known or suspected to be infected with COVID-19, or has been tested for COVID-19. The tool also requests a temperature check. The information collected by administering this screening tool will help ensure the health and safety of children and staff at care provider facilities by helping to identify and reduce potential exposure to COVID-19.

Respondents: Staff and visitors at ORR care provider facilities.

Annual Burden Estimates
Instrument | Total number of respondents | Annual responses per respondent | Average burden hours per response | Annual burden hours
COVID-19 Verbal Screening and Temperature Check | 15,000 | 260 | .033 | 128,700

Authority: 6 U.S.C. 279.

Mary B. Jones,
ACF/OPRE Certifying Officer.

[FR Doc. 2021-22477 Filed 10-14-21; 8:45 am]

BILLING CODE 4184-45-P